DEPARTMENT OF LABOR

Employment and Training Administration

[TA-W-60,031]

Velcorex, Inc., A Division of Dollus Mieg Company; Orangeburg, SC; Dismissal of Application for Reconsideration

Pursuant to 29 CFR 90.18(C) an application for administrative reconsideration was filed with the Director of the Division of Trade Adjustment Assistance for workers at Velcorex, Inc., a division of Dollus Mieg Company, Orangeburg, South Carolina. The application did not contain new information supporting a conclusion that the determination was erroneous, and also did not provide a justification for reconsideration of the determination that was based on either mistaken facts or a misinterpretation of facts or of the law. Therefore, dismissal of the application was issued.

TA-W-60,031; Velcorex, Inc., A division of Dollus Mieg Company, Orangeburg, South Carolina, (October 18, 2006).

Signed at Washington, DC this 23rd day of October 2006.
Elliott S. Kushner,
Certifying Officer, Division of Trade Adjustment Assistance.

[FR Doc. E6-18219 Filed 10-30-06; 8:45 am]

BILLING CODE 4510-30-P